DEPARTMENT OF JUSTICE

Antitrust Division

Notice Pursuant to the National Cooperative Research and Production Act of 1993—Training & Readiness Accelerator II

Notice is hereby given that, on April 19, 2024, pursuant to section 6(a) of the National Cooperative Research and Production Act of 1993, 15 U.S.C. 4301 et seq. (“the Act”), Training & Readiness Accelerator II (“TReX II”) has filed written notifications simultaneously with the Attorney General and the Federal Trade Commission disclosing changes in its membership. The notifications were filed for the purpose of extending the Act's provisions limiting the recovery of antitrust plaintiffs to actual damages under specified circumstances. Specifically, 10x National Security, Aldie, VA; Active Optical Systems LLC, Albuquerque, NM; Aerospace Business Development Associates, Inc., Fairborn, OH; ANDRO Computational Solutions LLC, Rome, NY; Applied Technology Solutions, Inc., Huntsville, AL; Aspen Consulting Group, Inc., Point Pleasant Boro, NJ; Aviation & Missile Solutions LLC, Huntsville, AL; BAE Systems, Inc., Fast Labs, Nashua, NH; Ball Aerospace & Technologies Corp., Boulder, CO; Barrow Wise Consulting LLC, Rockville, MD; Cahaba Federal Solutions LLC, Huntsville, AL; Carley Corp., Orlando, FL; Cognitive Medical Systems, Inc., San Diego, CA; Combustion Research & Flow Technology, Inc., Pipersville, PA; Concordia Technologies, Inc., Huntsville, AL; CymSTAR LLC, Broken Arrow, OK; DBV Technology LLC, North Kingstown, RI; Defense Unicorns, Inc., Colorado Springs, CO; Delta Development Team, Inc., Tucson, AZ; Electronics Services LLC, Great Mills, MD; Emelody Worldwide, Inc., Peachtree Corners, GA; Ether Form, Inc., McMinnville, OR; FEI-ELCOM TECH, Inc., Northvale, NJ; Firefly Photonics LLC, Coralville, IA; Galois, Inc., Portland, OR; General Atomics, San Diego, CA; General Dynamics Land Systems, Sterling Heights, MI; Goldbelt Hawk LLC, Newport News, VA; GrammaTech, Ithaca, NY; Hawk Technologies, Hancock, MI; IN Space LLC, Lafayette, IN; InterSystems Corp., Cambridge, MA; JRM Enterprises, Inc., Orlando, FL; Kent Optronics, Inc., Hopwell Junction, NY; Kinnami Software Corp., Braintree, MA; Kratos Defense & Rocket Support Services, Inc., Huntsville, AL; Kratos Space & Missile Defense Systems, Inc., San Diego, CA; L3 Harris Technologies, Inc. Electronic Warfare, Clifton, NJ; Metronome LLC, Fairfax, VA; Microwave Applications Group, Santa Maria, CA; Mike Sutton Consulting, Inc. dba MSCI, Owens Cross Roads, AL; Modern Technology Solutions, Inc., Alexandria, VA; MZA Associates Corp., Albuquerque, NM; Nanohmics, Inc., Austin, TX; Neya Systems, Warrendale, PA; Pandora Cloud LLC, Roswell, GA; Parallax Advanced Research, Beavercreek, OH; Parraid, Hollywood, MD; Physical Sciences, Inc., Andover, MA; Platform Systems, Inc. dba Platform Aerospace, Hollywood, MD; Quantum Ventura, Inc., San Jose, CA; Raft, Reston, VA; Red Balloon Security, Inc., New York, NY; REDLattice, Inc., Chantilly, VA; Scale AI, San Francisco, CA; Semantic AI, Inc., San Diego, CA; Serco, Inc., Herndon, VA; Shared Spectrum Company, Vienna, VA; Shock Stream LLC, Oviedo, FL; Sierra Lobo, Inc., Fremont, OH; SKIFTECH, Oviedo, FL; Southeastern Computer Consultants, Inc., Frederick, MD; Teledyne Digital Imaging US, Inc., Trenton, NJ; Telesis Corp., Sterling, VA; The Glimpse Group, Inc., New York, NY; The Pennsylvania State University—Applied Research Laboratory, University Park, PA; Tier 1 Performance Solutions LLC, Covington, KY; TransWave Photonics LLC, Austin, TX; Venus Aerospace, Houston, TX; Voss Scientific LLC, Albuquerque, NM; Vulcan Ventura, Inc., Concord, NC; Wright Brothers Institute, Dayton, OH; and Yrikka, Inc., Iowa City, IA, have been added as parties to this venture.

Also, Optimization Technologies, Inc. dba OptTek Systems, Boulder, CO; Origami Software Solutions, Norfolk, VA; Pamunkey Indian Enterprises—Professional Services (PIE-PS), King William, VA; QuesTek Innovations, Evanston, IL; Setter Research, Inc., Greensboro, NC; and TrustedQA, Inc., Reston, VA, have withdrawn as parties to this venture.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on January 15, 2024. A notice was published in the Federal Register pursuant to section 6(b) of the Act on April 16, 2024 (89 FR 26921).

Suzanne Morris,
Deputy Director Civil Enforcement Operations, Antitrust Division.

[FR Doc. 2024-14304 Filed 6-27-24; 8:45 am]

BILLING CODE P